DEPARTMENT OF HEALTH AND HUMAN SERVICES

National Institutes of Health

National Cancer Institute; Amended Notice of Meeting

Notice is hereby given of a change in the meeting of the National Cancer Institute Special Emphasis Panel, TEP-1B:SBIR Contract Review, February 2, 2022, 10:00 a.m. to February 2, 2022, 4:30 p.m., National Cancer Institute at Shady Grove, Room 7W030, 9609 Medical Center Drive, Rockville, Maryland 20850, which was published in the Federal Register on December 08, 2021, FR Doc. 2021-26593, 86 FR 69660.

This notice is being amended to change the meeting date from February 2, 2022 to February 8, 2022. The meeting times and location will stay the same. The meeting is closed to public.

Dated: January 18, 2022.
Melanie J. Pantoja,
Program Analyst, Office of Federal Advisory Committee Policy.

[FR Doc. 2022-01199 Filed 1-21-22; 8:45 am]

BILLING CODE 4140-01-P